DEPARTMENT OF HEALTH AND HUMAN SERVICES

Centers for Disease Control and Prevention

42 CFR Part 34

[Docket No. CDC-2008-0002]

RIN 0920-AA20

Medical Examination of Aliens—Revisions to Medical Screening Process

AGENCY: Centers for Disease Control and Prevention, U.S. Department of Health and Human Services.

ACTION: Correcting amendments.

SUMMARY: The Centers for Disease Control and Prevention (CDC), within the U.S. Department of Health and Human Services (HHS), published an Interim Final Rule in the Federal Register on October 6, 2008 (73 FR 58047), updating regulations that govern medical examinations that aliens must undergo before they may be admitted to the United States. This document corrects an omission contained in the rule.

DATES: Effective on October 20, 2008.

FOR FURTHER INFORMATION, CONTACT: Stacy M. Howard, Division of Global Migration and Quarantine, Centers for Disease Control and Prevention, U.S. Department of Health and Human Services, 1600 Clifton Road, NE., E03, Atlanta, GA 30333; telephone 404-498-1600.

SUPPLEMENTARY INFORMATION: The Centers for Disease Control and Prevention (CDC), within the U.S. Department of Health and Human Services (HHS), published an Interim Final Rule in the Federal Register of October 6, 2008, FR Doc. E8-23485, (73 FR 58047) updating regulations that govern medical examinations that aliens must undergo before they may be admitted to the United States. CDC inadvertently omitted an exception to the chest x-ray examination for aliens in the United States who apply for adjustment of status to permanent resident. CDC is publishing this correction to clarify that an alien of any age in the United States who applies for adjustment of status to permanent resident shall not be required to have a chest x-ray examination unless their tuberculin skin test, or an equivalent test that shows an immune response to Mycobacterium tuberculosis, is positive.

List of Subjects in 42 CFR Part 34

Aliens, Health care, Scope of examination, Passports and visas, Public health.

Accordingly, 42 CFR part 34 is corrected by making the following correcting amendments:

PART 34—MEDICAL EXAMINATION OF ALIENS

1. The authority citation for part 34 continues to read as follows:

Authority: 42 U.S.C. 252; 8 U.S.C. 1182 and 1222.

2. Amend § 34.3 by revising paragraph (e)(2)(iv) to read as follows:

§ 34.3 Scope of examinations.

* * * * *

(e) * * *

(2) * * *

(iv) Exceptions. Serologic testing for syphilis and HIV shall not be required if the alien is under the age of 15, unless there is a reason to suspect infection with syphilis or HIV. An alien, regardless of age, in the United States who applies for adjustment of status to lawful permanent resident shall not be required to have a chest x-ray examination unless their tuberculin skin test, or an equivalent test for showing an immune response to Mycobacterium tuberculosis antigens, is positive. HHS/CDC may authorize exceptions to the requirement for a tuberculin skin test, an equivalent test for showing an immune response to Mycobacterium tuberculosis antigens, or chest X-ray examination for good cause, upon application approved by the Director.

* * * * *

Dated: October 14, 2008.
Ann C. Agnew,
Executive Secretary, Department of Health and Human Services.

[FR Doc. E8-24797 Filed 10-17-08; 8:45 am]

BILLING CODE 4163-18-P